DEPARTMENT OF HEALTH AND HUMAN SERVICES

Food and Drug Administration

21 CFR Part 3

Change of Telephone Number; Technical Amendment

AGENCY: Food and Drug Administration, HHS.

ACTION: Final rule; technical amendment.

SUMMARY: The Food and Drug Administration (FDA) is amending its regulations to reflect a change in telephone number for the Office of Combination Products (OCP). This action is editorial in nature and is intended to improve the accuracy of the agency's regulations.

DATES: March 30, 2006.

FOR FURTHER INFORMATION CONTACT: Leigh Hayes, Office of Combination Products (HFG-3), Food and Drug Administration, 15800 Crabbs Branch Way, suite 200, Rockville, MD 20855, 301-427-1934.

SUPPLEMENTARY INFORMATION: FDA is amending its regulations in 21 CFR part 3 to reflect a change in the telephone number for the OCP.

Publication of this document constitutes final action on this change under the Administrative Procedure Act (5 U.S.C. 553). Notice and public procedures are unnecessary because FDA is merely correcting a nonsubstantive error.

List of Subjects in 21 CFR Part 3

Administrative practice and procedure, Biologics, Drugs, Medical devices.

Therefore, under the Federal Food, Drug, and Cosmetic Act and under authority delegated to the Commissioner of Food and Drugs, 21 CFR Part 3 is amended as follows:

PART 3—PRODUCT JURISDICTION

1. The authority citation for 21 CFR part 17 continues to read as follows:

Authority: 21 U.S.C. 321, 351, 353, 355, 360, 360c-360f, 360h-360j, 360gg-360ss, 360bbb-2, 371(a), 379e, 381, 394; 42 U.S.C. 216, 262, 264.

§ 3.6 [Amended]

2. Section 3.6 is amended by removing “301-827-9229” and by adding in its place “301-427-1934”.

Dated: March 23, 2006.
Jeffrey Shuren,
Assistant Commissioner for Policy.

[FR Doc. 06-3046 Filed 3-29-06; 8:45 am]

BILLING CODE 4160-01-S